DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 5, 2006.

Title and OMB Number: Federal Agency Retail Pharmacy Program; OMB Number 0720-0032

Type of Request: Revision.

Number of Respondents: 250.

Responses per Respondent: 8.

Annual Responses: 2,000.

Average Burden per Response: 8 hours.

Annual Burden Hours: 16,000.

Needs and Uses: The Department of Defense is revising the information collection requirements under current OMB control number 0720-0032. Specifically, under the revised collection of information, respondents (drug manufacturers) will base refund calculation reporting requirements on both the Federal Ceiling Price and the Federal Supply Schedule Price, whichever is lower. Prior to this rulemaking, drug manufacturers' reporting requirements addressed only the Federal Ceiling Price.

Affected Public: Business or other for-profit.

Frequency: Other (8 per year).

Respondent's Obligation: Mandatory.

OMB Desk Officer: Mr. John Kraemer.

Written comments and recommendations on the proposed information collection should be sent to Mr. Kraemer at the Office of Management and Budget, Desk Officer for DoD Health, Room 10102, New Executive Office Building, Washington, DC 20503.

DOD Clearance Officer: Ms. Patricia Toppings.

Written requests for copies of the information collection proposal should be sent to Ms. Toppings, WHS/ESD/Information Management Division, 1777 North Kent Street, RPN, Suite 11000, Arlington, VA 22209-2133.

Dated: November 29, 2005.
Patricia L. Toppings,
Alternate OSD Federal Register Liaison Officer, Department of Defense.

[FR Doc. 05-23661 Filed 12-5-05; 8:45 am]

BILLING CODE 5001-06-M